DEPARTMENT OF JUSTICE

National Institute of Corrections

Advisory Board Meeting

Time and Date: 8:30 a.m. to 5 p.m. on Monday, June 23-24, 2003.

Place: Sheraton North Houston at George Bush Intercontinental Airport, 15700 JFK Boulevard, Houston, TX 77032.

Status: Open.

Matters To Be Considered: Director's report; Panel Presentation on NICs Leadership/Management Training; Tour of the state Texas Department of Criminal Justice, Jester III Unit, the Inner Change Program (a faith-based initiative); Division reports; Up date on Interstate Compact activities; and Quarterly Report by Office of Justice Programs.

Contact Person for More Information: Larry Solomon, Deputy Director, 202-307-3106, ext. 44254.

Morris L. Thigpen,
Director.

[FR Doc. 03-12744 Filed 5-20-03; 8:45 am]

BILLING CODE 4410-36-M